DEPARTMENT OF AGRICULTURE

Food and Nutrition Service

Submission for OMB Review; Comment Request

May 2, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by June 6, 2016 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Evaluation of Food Insecurity Nutrition Incentives (FINI).

OMB Control Number: 0584-NEW.

Summary of Collection: The Agriculture Act of 2014 (Pub. L. 113-79) authorized USDA to provide Food Insecurity Nutrition Incentives (FINI) grants to eligible organizations to design and implement projects to increase purchases of fruits and vegetables among low income consumers participating in the SNAP by providing incentives at point of purchase.

Need and Use of the Information: The Food and Nutrition Service (FNS) will collect information to measure changes in fruit and vegetable purchases and consumption, food security, and perceived diet quality and health status among Supplemental Nutrition Assistance Program (SNAP) participants receiving incentives at point of purchase.

Description of Respondents: Individuals/Households, State/Local Government, Business or other for-profit; Not-for-profit institutions.

Number of Respondents: 11,286.

Frequency of Responses: 64,656.

Estimated Total Burden Hours: 4,501.

Ruth Brown,
Departmental Information Collection Clearance Officer.

[FR Doc. 2016-10699 Filed 5-5-16; 8:45 am]

BILLING CODE 3410-30-P